DEPARTMENT OF COMMERCE

[I.D. 122000A]

Submission For OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Shoreside Processor Electronic Logbook Reports for the Alaska Bering Sea/Aleutian Islands Pollock and Pacific Cod Fisheries

Form Number(s): None

OMB Approval Number: None

Type of Request: Emergency

Burden Hours: 887

Number of Respondents: 19

Average Hours Per Response: 35 minutes

Needs and Uses: The American Fisheries Act (AFA) imposed major structural changes on the Bering Sea and Aleutian Islands Management Area (BSAI) pollock fishery, which is managed by National Marine Fisheries Service (NMFS), Alaska Region. These changes include addition of new recordkeeping and reporting requirements for participation in the BSAI pollock fishery for processors that receive groundfish from AFA catcher vessels and for BSAI pollock fishery cooperatives formed under the AFA. On November 30, 2000, NMFS released the Biological Opinion assessing the groundfish fisheries of the BSAI and GOA and effects on Steller sea lions as required by the Endangered Species Act (ESA). As a result, changes are required to recordkeeping and reporting procedures in order to facilitate management of fisheries by National Marine Fishery Service (NMFS). Existing requirements for electronic reporting by shoreside processors will be extended to processors that receive Pacific cod harvested in the Pacific cod directed fishery and to processors receiving pollock from the pollock directed fishery.

Affected Public: Business and other for-profit

Frequency: On occasion

Respondent's Obligation: Mandatory

OMB Desk Officer: David Rostker, (202) 395-3897.

Copies of the above information collection proposal can be obtained by calling or writing Madeleine Clayton, DOC Forms Clearance Officer, (202) 482-3129, Department of Commerce, Room 6086, 14th and Constitution Avenue, NW, Washington, DC 20230 (or via the Internet at MClayton@doc.gov).

Written comments and recommendations for the proposed information collection should be sent within 10 days of publication of this notice to David Rostker, OMB Desk Officer, Room 10202, New Executive Office Building, Washington, DC 20503.

Dated: December 19, 2000.
Madeleine Clayton,
Departmental Forms Clearance Officer, Office of the Chief Information Officer.

[FR Doc. 00-33001 Filed 12-26-00; 8:45 am]

BILLING CODE 3510-22-S